DEPARTMENT OF AGRICULTURE

Forest Service

Revision of Land and Resource Management Plan for the Santa Fe National Forest; Counties of Los Alamos, Mora, Rio Arriba, Sandoval, San Miguel, Santa Fe, and Taos, New Mexico

AGENCY: Forest Service, USDA.

ACTION: Notice of Intent to revise the Santa Fe National Forest Land and Resource Management Plan and to prepare an associated Environmental Impact Statement (EIS).

SUMMARY: The Forest Service is revising the Land and Resource Management Plan (hereafter referred to as the forest plan) for the Santa Fe National Forest. This notice describes the documents (assessment report, summaries of public meetings, preliminary needs-to-change statements) currently available for review and how to obtain them; summarizes the needs to change to the existing forest plan; provides information concerning public participation and engagement, including the process for submitting comments; provides an estimated schedule for the planning process, including the time available for comments, and includes the names and addresses of agency contacts who can provide additional information.

DATES: Comments concerning the Needs for Change and Proposed Action provided in this notice will be most useful in the development of the revised forest plan and draft EIS if received by August 5, 2016. The agency expects to release a draft revised forest plan and draft EIS by summer, 2017 and a final revised forest plan and final EIS by fall, 2018.

ADDRESSES: Written correspondence can be sent to: Santa Fe National Forest, Attn: Forest Plan, 11 Forest Lane, Santa Fe, NM 87508, or emailed to santafeforestplan@fs.fed.us.

FOR FURTHER INFORMATION CONTACT: Jennifer Cramer, Forest Planner, Santa Fe National Forest, 11 Forest Lane, Santa Fe, New Mexico 87508. More information on our forest plan revision process can be found on our Web site at www.fs.usda.gov/goto/santafeforestplan. If you have questions or would like to sign-up for our mailing list, you can email santafeforestplan@fs.fed.us or call our Forest Plan Revision number: 505-438-5442. Individuals who use telecommunication devices for the deaf (TDD) may call the Federal Information Relay Service (FIRS) at 1-800-877-8339 between 8 a.m. and 8 p.m., Eastern Time, Monday through Friday.

SUPPLEMENTARY INFORMATION: The National Forest Management Act (NFMA) of 1976 requires that every National Forest System (NFS) unit develop a forest plan. On April 9, 2012, the Forest Service finalized its land management planning rule (2012 Planning Rule, 36 CFR 219), which describes requirements for the planning process and the content of the forest plans. Forest plans describe the strategic direction for management of forest resources for ten to fifteen years, and are adaptive and amendable as conditions change over time. Under the 2012 Planning Rule, the assessment of ecological, social, and economic conditions and trends is the first stage of the planning process (36 CFR 219.6). The second stage, formal plan revision, involves the development of our forest plan in conjunction with the preparation of an Environmental Impact Statement under the NEPA. The third stage of the process is monitoring and feedback, which is ongoing over the life of the revised forest plans.

The Santa Fe National Forest has completed its assessment pursuant to 2012 Forest Planning Rule. The assessment was developed with public participation and includes an evaluation of existing information about relevant ecological, economic, cultural and social conditions, trends, and sustainability and their relationship to forest plans within the context of the broader landscape. The intent of the Santa Fe National Forest is that this information builds a common understanding prior to entering formal plan revision. With this notice, the Santa Fe National Forest is initiating formal plan revision and invites other governments, non-governmental parties, and the public to contribute. The intent of public engagement is to inform development of the plan revision. We encourage contributors to share material that may be relevant to the planning process, including desired conditions for the Santa Fe National Forest. As we develop public engagement opportunities to assist with the plan revision phase, public announcements will be made and information will be posted on the Forest's Web site: www.fs.usda.gov/goto/santafeforestplan. If you would like to contribute to the process or for more information, please call 505-438-5442, email santafeforestplan@fs.fed.us, or contact Jennifer Cramer, Forest Planner, Santa Fe National Forest, 505-438-5449.

Name and Address of the Responsible Official

The Responsible Official for the revision of the forest plan for the Santa Fe National Forest is Maria T. Garcia, Forest Supervisor, Santa Fe National Forest, 11 Forest Lane, Santa Fe, New Mexico 87508.

Nature of the Decision To Be Made

The Santa Fe National Forest is proposing to revise the existing forest plan and is preparing an EIS to inform the Forest Supervisor so she can decide which alternative best maintains and restores National Forest System terrestrial and aquatic resources while providing ecosystem services and multiple uses, as required by the National Forest Management Act and the Multiple Use Sustained Yield Act.

The revised forest plan will describe the strategic intent of managing the Santa Fe National Forest for the next 10 to 15 years and will address the identified needs for change to the existing forest plan. The revised forest plan will provide management direction in the form of desired conditions, objectives, standards, guidelines, and suitability of lands. It will identify delineation of new management areas and potentially geographic areas across the Forest; identify the timber sale program quantity; make recommendations to Congress for Wilderness designation; and list rivers and streams eligible for inclusion in the National Wild and Scenic Rivers System. The revised forest plan will also provide a description of the plan area's distinctive roles and contributions within the broader landscape, identify watersheds that are a priority for maintenance or restoration, include a monitoring program, and contain information reflecting expected possible actions over the life of the forest plan.

The revised forest plan will represent decisions that are strategic in nature, but will not make site-specific project decisions and will not dictate day-to-day administrative activities needed to carry on the Forest Service's internal operations. The authorization of project level activities will be based on the guidance/direction contained in the revised forest plan, but will occur through subsequent project specific NEPA analysis and decision-making.

The revised forest plan will provide broad, strategic guidance that is consistent with other laws and regulations. Though strategic guidance will be provided, no decisions will be made regarding the management of individual roads or trails, such as those might be associated with a Travel Management plan under 36 CFR part 212. Some issues (e.g., hunting regulations), although important, are beyond the authority or control of the National Forest System and will not be considered. No decision regarding oil and gas leasing availability will be made, though plan components may be brought forward or developed that will help guide the development of oil & gas leasing decisions that might be necessary in the future.

Purpose and Need (Needs for Change) and Proposed Action

According to the National Forest Management Act, forest plans are to be revised every 10 to 15 years. The proposed action is to revise the forest plan to address the identified needs for change to the existing forest plan. Alternatives to the proposed action will be developed to address significant issues identified through scoping.

The purpose and need for revising the current forest plan are to: (1) Update the forest plan which was approved in 1987 and is over 29 years old, (2) reflect changes in economic, social, and ecological conditions, new policies and priorities, and new information based on monitoring and scientific research, and (3) address the preliminary identified needs for change to the existing forest plan, which are summarized below. Extensive public and interdisciplinary team involvement, along with science-based evaluations, have helped to identify these preliminary needs for change to the existing forest plan.

What follows is a summary of the preliminary identified needs for change to the existing forest plan. A more fully developed description of the preliminary needs for change, which has been organized into several resource and management topic sections, is available for review on the plan revision Web site at: www.fs.usda.gov/goto/santafeforestplan.

The Santa Fe National Forest has identified twelve focus areas, the first topics presented below, that have the greatest needs for new or different plan direction. Needs for change for additional resources follow and represent additional cases where changes are needed in plan direction. Overall, there is a need for plan direction that is strategic and identifies desired conditions with objectives for how resources should be managed; eliminates redundancies with existing laws, regulations and policy; removes requirements to prepare additional resource plans; and that incorporates the best available scientific information (BASI) into all plan components.

Monitoring. Monitoring is a critical element of adaptive management, and the plan monitoring program needs to be focused to be effective. Monitoring questions that are relevant to plan components including desired conditions, standards, guidelines, suitability and other strategic goals of the revised forest plan are needed. In addition, monitoring at appropriate scales is needed, including monitoring beyond the Santa Fe National Forest boundary to compare resources on the forest with their status on a larger context scale or even between neighboring forests.

Relationships & Partners. Relationships and effective partnerships are key to the successful implementation of the forest plan that will protect the land and serve the people. Management approaches are needed to both streamline the processes that leverage partners and volunteers and build stronger relationships with the public, including but not limited to state and federal agencies, cities and counties, tribal governments, recreational and forest user groups, environmental groups, land grant communities and other traditional communities, local communities, youth, and vendors. Management approaches are also needed that will emphasize public education regarding the Santa Fe National Forest's diverse ecological, social, and economic resources, the multiple-use philosophy, public laws and regulations, and management strategies.

Frequent Fire (Low Severity) Systems. Fire exclusion and past management activities have limited frequent, low-severity wildfires on the landscape. Wildfire atypical of historic fire regimes has resulted from higher densities of trees, increased fuel loadings, and altered species composition from mature, fire-tolerant species toward shade-tolerant, less fire-resistant species. There is a need for plan direction that recognizes the natural processes of fire and its use as a management tool for vegetation types on the Santa Fe National Forest and that supports integrated resource objectives.

Grass Cover. Grassland, woodland and shrubland have significantly less grass cover and productivity as a result of legacy (historical) grazing from livestock, wildlife grazing, roads, and the exclusion of wildfire. This lack of cover contributes to reduced water infiltration, accelerated erosion and declining soil productivity, especially during periods of drought and contributes to a cycle that continues to reduce vegetative cover. In addition, native grasses on much of the landscape have been replaced with non-native and/or invasive species and are not as effective in the prevention of erosion or as productive for forage. There is a need for desired conditions and standards and guidelines that allow for the restoration, conservation, and maintenance of grass productivity and diversity, emphasizing native grasses. Desired conditions that limit and reverse woody species encroachment into grasslands and infill of shrublands, woodlands, and forested systems are also needed.

Riparian Ecosystems. Riparian systems have been degraded and are at risk across the forest. A variety of land uses (e.g., roads, grazing, recreation), increased water demand (water withdrawal) and climatic changes (e.g., long-term drought) have deteriorated these systems. There is a need for desired conditions to restore or maintain characteristic composition and cover of riparian vegetation. There is a need for standards and guidelines that minimize the ecological impacts of multiple uses in riparian areas, and a recognition of their reliance on upland ecological health.

Restoration of Ecosystem Resiliency. Resiliency is the ability of an ecosystem to regain structure, composition, and function following disturbance on a time span that is consistent with the dynamics of the ecosystem. There is a need for plan direction that recognizes the interdependence of resources, provides for management areas that reflect natural features and/or ecological boundaries, incorporates adaptive management components to better respond to changing environmental conditions, and support an all-lands approach of working with neighboring land managers to implement projects that improve landscape connectivity across mixed ownerships where natural systems span multiple administrative boundaries. In addition, desired conditions are needed that promote natural disturbance processes that sustain forest carbon sequestration and emphasize silvicultural practices of uneven-aged management, and standards and guidelines that limit non-native species while encouraging native species.

Water. Both natural and human-caused disturbances have degraded water quality and quantity. As population around the Santa Fe National Forest increases, the lack of surface water will place a greater demand on groundwater resources which may further deplete surface flows both on and off the forest. There is a need for plan direction to protect stream channels, hydrological function and condition of water-dependent systems by maintaining and restoring upland and riparian vegetative cover and reducing erosion and sedimentation from disturbed sites (e.g., reclaiming roads) where feasible. There is also a need for plan direction which provides for sustainable groundwater-dependent ecosystems (e.g., seeps and springs, fens, and wetlands) and for the long-term protection of groundwater quality and quantity on the Santa Fe National Forest. There is a need for plan direction that considers consumptive water uses and water rights because water is over allocated and will continue to be in high demand.

Soils. Soil condition, and soil erosion hazard are directly linked to site productivity and soil resilience, and current soil loss rates exceed natural soil loss rates across the Santa Fe National Forest. The majority of the Santa Fe National Forest has a high probability for accelerated erosion due to natural disturbances or management disturbances that expose the soil surface without incorporating erosion control measures. There is a need for plan direction that promotes the maintenance and restoration of soil condition and function (e.g., hydrology, stability, and nutrient cycling) by limiting the amount of exposed soil and by restoring and maintaining sufficient vegetative cover.

Range. Vegetation analyses show that the grassland types commonly used for livestock grazing are losing productivity due to declines in herbaceous ground cover, invasive species and drought. Other key influences include fractured ownership of private lands, legal uncertainties about land titles, and endangered species listings by the U.S. Fish and Wildlife Service, including the New Mexico Meadow Jumping Mouse. There is a need for plan direction that provides opportunities to use adaptive management for the range program that incorporates ecosystem-based desired conditions, with particular emphasis on strategies to address drought and other extreme weather-related events.

Recreation. The ability of the Santa Fe National Forest to provide a meaningful recreation program is at risk, reflecting increasing and changing demands in a resource-constrained management environment. There is a need for plan direction on sustainable recreation management to provide high quality recreational experiences that are consistent with the Santa Fe National Forest's social, environmental, and economical resource capacity while balancing changing trends in services and intended use of recreation infrastructure and facilities. Plan direction is also needed to help manage recreation activity impacts to areas sensitive to resource degradation or at risk due to high visitation and to reduce user conflicts.

Infrastructure. The Santa Fe National Forest's ability to maintain its current infrastructure is severely threatened. Of the approximately 6,900 miles of roads on the landscape, 2,200 miles of roads are open to the public for motorized use. The remaining 4,700 miles of roads may be administrative use roads or non-system roads, and most contribute to erosion and sedimentation, reflecting a critical and growing gap in resources for maintenance. There is also infrastructure related to rural and agronomic uses, such as timber harvesting, grazing, and rangeland management. Much of the range infrastructure across the forest is non-functional and/or in need of maintenance or decommissioning. Non-functional water developments and downed fencing result in cattle seeking water in sensitive riparian areas. Unmaintained and vandalized range improvements can also be hazardous for wildlife. There is a need for plan direction to ensure sustainable infrastructure (e.g., roads, recreation and administrative facilities, range improvements, maintenance, etc.) and standards and guidelines that address negative impacts of existing roads.

Land Status and Ownership. The Lands Program on the Santa Fe National Forest has increasing demands for services such as managing access to private inholdings, managing encroachments from private land onto Forest Service land, title claims, evolving requests for communication sites, the ever-growing Wildland Urban Interface area, completing property boundary surveys, and fragmentation. There is a need for plan direction regarding access to private lands, including during evaluation of placement of infrastructure, to minimize natural resource damage while ensuring rights of access to private lands are respected. Due to growing demand, plan direction regarding sites for communications infrastructure is needed. Plan direction is also needed to protect existing public access rights and provide for new recreational access opportunities to National Forest lands. Management approaches that support coordination between local governments and the Forest Service regarding permits, leases, and easements on National Forest lands are needed.

Wildlife, Fish, and Plants. There is a need for plan direction that supports restoration and maintenance of ecological conditions that contribute to the recovery and conservation of federally listed species (threatened and endangered), maintaining viable populations of the species of conservation concern, and maintaining common and abundant species. In addition, plan direction for terrestrial and aquatic habitat connectivity for species migration and movement is needed.

Air. There is a need for plan direction for air quality in terms of ambient air quality, visibility, and critical loads.

Socioeconomic Resources. There is a need for plan direction that recognizes the Santa Fe National Forest's role in contributing to traditional and cultural forest uses and local economies, including service-based sectors such as recreation and tourism, timber, and other multiple-use related activities and products.

Designated Areas. There is a need for plan direction to identify and evaluate potential additions to the National Wilderness Preservation System and eligibility for inclusion in the National Wild and Scenic Rivers System. In addition, plan direction for designated and recommended wilderness areas is needed to protect and enhance wilderness values and character.

Scenery. There is a need for plan direction to integrate scenery management into all resource management decisions with the intent of retaining and enhancing scenic resources while integrating with other resources (e.g., restoration, habitat diversity, and timber management).

Cultural Resources. There is a need for plan direction to stabilize, preserve, interpret, and protect historic and sensitive properties, (e.g., archaeological sites, historic structures, and traditional cultural properties). There is also a need for plan direction that recognizes the inherent value and preservation of Native American traditional cultural properties and sacred sites, as well as non-Native American traditional cultural properties, while maintaining the anonymity of such sites where appropriate.

Traditional and Cultural Ways of Life. There are deep and historic ties between nearby populations and the Santa Fe National Forest, and the revised plan needs to recognize and protect historic and contemporary cultural uses—both economic and non-economic—for tribes as well as traditional communities not considered under tribal relations (e.g. traditional Hispanic and Anglo communities).

Areas of Tribal Importance. There is a need for management approaches that include opportunities for integrating forest management with tribal needs through shared stewardship to address threats to adjacent tribal resources (e.g., through the Tribal Forest Protection Act of 2004), to meet common objectives identified in tribal and pueblo land management plans, and to utilize an “all lands” approach to resources management.

Extractive multiple uses. There is a need for plan direction that provides for the use of a variety of forest products by commercial, noncommercial, tribal, and land grant users. There is a need for plan direction that allows for flexible size criteria regarding timber extraction to balance desired conditions and the ability to provide economically viable forest products. There is a need for plan direction regarding traditional and alternative energy sources that balances demand with natural resource impacts.

Public Involvement

A Notice of initiating the assessment phase of forest plan revision for the Santa Fe National Forest was published in the Federal Register on March 6, 2014 (79 FR 12686). Prior to the formal initiation of the assessment, the Santa Fe National Forest held 27 joint listening sessions with the Carson National Forest and two workshops to solicit comments, input, and desires from the public, governmental entities, tribes, land grants, and nongovernmental organization for public participation through the forest plan revision process. In April and May 2014, fourteen public meetings provided an introduction to forest plan revision and an opportunity for the public to provide input for the assessment by expressing how they use and value the forest, and what trends or changes they have observed. This information was directly incorporated into the assessment report for the Santa Fe National Forest “Input Received from Public Meetings”. In April and May 2015, the Santa Fe and Carson National Forests jointly held three meetings with members of local land grants, to present and discuss the plan revision process. In October 2015, the forest held a symposium to present detailed findings from the assessment followed by ten public and two tribal work sessions on developing Need for Change statements. Additionally, the Santa Fe National Forest has been informing and engaging communities at a local level through presentation at meetings hosted by organizations, government groups and Tribes; informational booths at fairs and local community events; and presentations and field trips for local schools.

Any comments related to the Santa Fe National Forest's assessment report that are received following the publication of this Notice may be considered in the draft and final environmental impact statements.

Scoping Process

Written comments received in response to this notice will be analyzed to complete the identification of the needs for change to the existing forest plan, further develop the proposed action, and identify potential significant issues. Significant issues will, in turn, form the basis for developing alternatives to the proposed action. Comments on the preliminary needs for change and proposed action will be most valuable if received by August 17, 2016, and should clearly articulate the reviewer's opinions and concerns. Comments received in response to this notice, including the names and addresses of those who comment, will be part of the public record. Comments submitted anonymously will be accepted and considered in the NEPA process; however, anonymous comments will not provide the Agency with the ability to provide the respondent with subsequent environmental documents. See the below objection process material, particularly the requirements for filing an objection, for how anonymous comments are handled during the objection process. Refer to the Forest's Web site (www.fs.usda.gov/goto/santafeforestplan) for information on when public meetings will be scheduled for refining the proposed action and identifying possible alternatives to the proposed action.

Applicable Planning Rule

Preparation of the revised forest plan for the Santa Fe National Forest began with the publication of a Notice of Assessment Initiation in the Federal Register on March 6, 2014 (79 FR 12686) and was initiated under the planning procedures contained in the 2012 Forest Service planning rule (36 CFR 219 (2012)).

Permits or Licenses Required To Implement the Proposed Action

No permits or licenses are needed for the development or revision of a forest plan.

Decisions Will Be Subject To Objection

The decision to approve the revised forest plan for the Santa Fe National Forest will be subject to the objection process identified in 36 CFR part 219 Subpart B (219.50 to 219.62). According to 36 CFR 219.53(a), those who may file an objection are individuals and entities who have submitted substantive formal comments related to forest plan revision during the opportunities provided for public comment during the planning process.

Documents Available for Review

The Needs for Change documentation, the Assessment Report, summaries of the public meetings and public meeting materials, and public comments and responses are posted on the Forest's Web site at: www.fs.usda.gov/goto/santafeforestplan. As necessary or appropriate, the material available on this site will be further adjusted as part of the planning process using the provisions of the 2012 planning rule.

Authority: 16 U.S.C. 1600-1614; 36 CFR part 219 [77 FR 21260-21273].

Dated: June 23, 2016.
Joseph S. Norrell,
Deputy Forest Supervisor.

[FR Doc. 2016-15525 Filed 6-29-16; 8:45 am]

BILLING CODE 3410-11-P